DEPARTMENT OF THE INTERIOR

National Park Service

[NPS-SERO-BLRI-11177; 2031-A048-409]

Final Environmental Impact Statement for General Management Plan, Blue Ridge Parkway, Virginia and North Carolina

AGENCY: National Park Service, Interior.

ACTION: Notice of Availability.

SUMMARY: Pursuant to the National Environmental Policy Act of 1969, 42 U.S.C. 4332(2)(C), the National Park Service (NPS) announces the availability of the Final Environmental Impact Statement (FEIS) for the General Management Plan (GMP) for Blue Ridge Parkway (parkway). Consistent with NPS laws, regulations, and policies and the purpose of the parkway, the FEIS/GMP will guide the management of the parkway over the next 20+ years.

DATES: The NPS will execute a Record of Decision (ROD) no sooner than 30 days following publication of the Environmental Protection Agency of its Notice of Availability of the FEIS/GMP in the Federal Register.

ADDRESSES: Electronic copies of the FEIS/GMP will be available online at http://parkplanning.nps.gov/BLRI. To request a copy, contact Superintendent Phil Francis, Blue Ridge Parkway, 199 Hemphill Knob Road, Asheville, NC 28803.

A limited number of compact disks and printed copies of the FEIS/GMP will be made available at Blue Ridge Parkway Headquarters, 199 Hemphill Knob Road, Asheville, NC 28803.

FOR FURTHER INFORMATION CONTACT: Superintendent Phil Francis, Blue Ridge Parkway, 199 Hemphill Knob Road, Asheville, NC 28803; telephone (828) 271-4779.

SUPPLEMENTARY INFORMATION: The FEIS/GMP responds to, and incorporates, agency and public comments received on the draft plan/EIS, which was available for public review from October 7, 2011, through December 16, 2011. Four public meetings were held from November 2, 2011, through November 10, 2011, to gather input on the draft plan/EIS. There were 3,360 pieces of correspondence received during the public review period. The NPS responses to substantive agency and public comments are provided in Chapter 5, Consultation and Coordination section, of the FEIS/GMP.

The FEIS/GMP evaluates three alternatives for managing use and development of the parkway. The NPS preferred alternative is Alternative B, which emphasizes the original parkway design and traditional driving experience, while enhancing outdoor recreation opportunities and regional natural resource connectivity, and providing modest improvements to visitor services. In essence, it seeks to reinvest in the parkway's aging infrastructure, update inadequate visitor services and facilities and protect a natural environment that is only surpassed in biologically diversity by two other units in the national park system. When approved, the plan will guide the management of the parkway over the next 20+ years.

The responsible official for this FEIS/GMP is the Regional Director, NPS Southeast Region, 100 Alabama Street SW., 1924 Building, Atlanta, Georgia 30303.

Dated: January 9, 2013.
Shawn T. Benge,
Acting Regional Director, Southeast Region.

[FR Doc. 2013-00691 Filed 1-14-13; 8:45 am]

BILLING CODE 4310-3P-P